DEPARTMENT OF TRANSPORTATION

Research and Special Programs Administration (RSPA)

[Docket No. RSPA-98-4470]

Pipeline Safety: Meeting Notification—Technical Hazardous Liquid Pipeline Safety Standards Advisory Committee

AGENCY: Office of Pipeline Safety, Research and Special Programs Administration, DOT.

ACTION: Notice of technical hazardous liquid pipeline safety standards advisory committee meeting.

SUMMARY: Pursuant to section 10(a)(2) of the Federal Advisory Committee Act (Pub. L. 92-463, 5 U.S.C. App. 1) notice is given of a public meeting of the Technical Hazardous Liquid Pipeline Safety Standards Committee (THLPSSC) to be conducted by the Research and Special Programs Administration's (RSPA), Office of Pipeline Safety (OPS). The meeting will be held on Monday, August 13, 2001 from 10:00 a.m. to 12:00 p.m.

The THLPSSC is a statutorily mandated advisory committee that advises RSPA's OPS on proposed safety standards and other safety policies for hazardous liquid pipelines. The committee consists of 15 members—five each representing government, industry, and the public.

RSPA issued a final rule, “Pipeline Integrity Management in High Consequence Areas (Hazardous Liquid Operators With 500 or More Miles of Pipeline),” which was published on December 1, 2000(65 FR 75378). In the final rule, RSPA sought comment on 49 CFR Section 195.452(h) because it varied considerably from the proposed rule. A copy of the final rule can be found on the Internet—OPS Docket Management System http://dms.dot.gov (Docket Number 6355). The THLPSSC will discuss comments received and vote on Section 195.452(h) as published on December 1, 2000.

The THLPSSC will also discuss and vote on the proposed rule “Pipeline Integrity in High Consequence Areas (Hazardous Liquid Pipelines With 500 Miles or Less of Pipeline),” which was published on March 25, 2001 (66 FR 15821). A copy of the proposed rule can be found on the Internet—OPS Docket Management System http://dms.dot.gov (Docket Number 7408).

Information on Services for Individuals With Disabilities

For information on facilities or services for individuals with disabilities or to request special assistance at the meeting, contact Juan Carlos Martinez at (202) 366-1933.

FOR FURTHER INFORMATION CONTACT: Cheryl Whetsel, OPS, (202) 366-4431 or Richard Huriaux, OPS, (202) 366-4565, regarding the subject matter of this notice.

SUPPLEMENTARY INFORMATION: Members of the public may attend the meeting in person at the Department of Transportation, Nassif Building, Room 7128, 400 Seventh Street, SW, Washington, DC 20590. Due to limited space, anyone wishing to attend or participate should notify Juan Carlos Martinez, at (202) 366-1933, not later than July 30, 2001.

Authority: 49 U.S.C. 60102, 60115.

Issued in Washington, DC on June 28, 2001.
Stacey L. Gerard,
Associate Administrator.

[FR Doc. 01-16729 Filed 7-3-01; 8:45 am]

BILLING CODE 4910-60-P